DEPARTMENT OF HEALTH AND HUMAN SERVICES

National Institutes of Health

Center for Scientific Review; Amended Notice of Meeting

Notice is hereby given of a change in the meeting of the Center for Scientific Review Special Emphasis Panel, Small Business: Psycho/Neuropathology, Lifespan Development, and Science Education, October 24, 2013, 08:00 a.m. to October 25, 2013, 06:00 p.m., Renaissance Seattle Hotel, 515 Madison Street, Seattle, WA 98104 which was published in the Federal Register on October 01, 2013, 78 FR 60297-60299.

The meeting will be held on November 18, 2013 at the Bethesda Marriott Suites, 6711 Democracy Boulevard, Bethesda, MD 20817. The meeting will start at 8:00 a.m. and end at 2:00 p.m. The meeting is closed to the public.

Dated: October 28, 2013.
Anna Snouffer,
Deputy Director, Office of Federal Advisory Committee Policy.

[FR Doc. 2013-25914 Filed 10-30-13; 8:45 am]

BILLING CODE 4140-01-P